DEPARTMENT OF COMMERCE

Foreign-Trade Zones Board

[Docket T-1-2010]

Foreign-Trade Zone 22—Chicago, IL Application for Temporary/Interim Manufacturing Authority LG Electronics MobileComm USA, Inc. (Cell Phone Kitting and Distribution) Bolingbrook, IL

An application has been submitted to the Executive Secretary of the Foreign-Trade Zones Board (the Board) by the Illinois International Port District, grantee of FTZ 22, requesting temporary/interim manufacturing (T/IM) authority within FTZ 22 at the LG Electronics MobileComm USA, Inc. (LGEMU) facility, located in Bolingbrook, Illinois. The application was filed on January 13, 2010.

The LGEMU facility (20 employees, 17 acres, 38.9 million unit capacity is located at 1251 115th St., Bolingbrook (Site 12). Under T/IM procedures, the LGEMU has requested authority to conduct kitting activity for cell phone handsets (HTSUS 8517.12 and 8517.62). Foreign components that would be used in production (representing 90-95% of the value of the finished product) include: Cell phone batteries; cell phone chargers and adaptors; headphones; earphones; microphones; battery doors; cables; film packing materials; poly bags; blister packaging; master cartons; gift boxes; labels; bound instruction manuals; CD-ROM user guides; blue tooth units; paper inner trays; holsters; and, vinyl protective packaging sheets (duty rate ranges from duty free to 5.8%). T/IM authority could be granted for a period of up to two years.

Under FTZ procedures, LGEMU would be able to choose the duty rates during customs entry procedures that apply to cell phone mobile handsets (duty free) for the foreign inputs noted above for its shipments to the U.S. market. LGEMU could also realize logistical benefits through the use of weekly customs entry procedures. Customs duties also could possibly be deferred or reduced on foreign status production equipment. The request indicates that the savings from FTZ procedures would help improve the plant's international competitiveness.

In accordance with the Board's regulations, Maureen Hinman of the FTZ Staff is designated examiner to evaluate and analyze the facts and information presented in the application and case record and to report findings and recommendations pursuant to Board Orders 1347 and 1480.

Public comment is invited from interested parties. Submissions (original and 3 copies) shall be addressed to the Board's Executive Secretary at the following address: Office of the Executive Secretary, Foreign-Trade Zones Board, U.S. Department of Commerce, Room 2111, 1401 Constitution Ave., NW., Washington, DC 20230. The closing period for their receipt is February 26, 2010.

LGEMU has also submitted a request for permanent FTZ manufacturing authority, which may include additional products and components. It should be noted that the request for permanent authority would be docketed separately and would be processed as a distinct proceeding. Any party wishing to submit comments for consideration regarding the request for permanent authority would need to submit such comments pursuant to the separate notice that would be published for that request.

A copy of the application will be available for public inspection at the Office of the Foreign-Trade Zones Board's Executive Secretary at the address listed above, and in the “Reading Room” section of the Board's Web site, which is accessible via www.trade.gov/ftz. For further information, contact Maureen Hinman at maureen.hinman@trade.gov or (202) 482-0627.

Dated: January 13, 2010.
Andrew McGilvray,
Executive Secretary.

[FR Doc. 2010-1628 Filed 1-26-10; 8:45 am]

BILLING CODE P